DEPARTMENT OF TRANSPORTATION

Federal Aviation Administration

14 CFR Part 39

[Docket No. FAA-2021-0621; Project Identifier MCAI-2020-01517-T; Amendment 39-21849; AD 2021-25-06]

RIN 2120-AA64

Airworthiness Directives; Airbus Defense and Space S.A. (Formerly Known as Construcciones Aeronauticas, S.A.) Airplanes

AGENCY: Federal Aviation Administration (FAA), Department of Transportation (DOT).

ACTION: Final rule.

SUMMARY: The FAA is superseding Airworthiness Directive (AD) 2018-25-16, which applied to certain Airbus Defense and Space S.A. Model CN-235, CN-235-200, and CN-235-300 airplanes. AD 2018-25-16 required revising the existing maintenance or inspection program, as applicable, to incorporate new or more restrictive airworthiness limitations. Since the FAA issued AD 2018-25-16, the FAA has determined that additional new or more restrictive airworthiness limitations, including inspections for discrepancies (cracking) of certain structural elements, are necessary. This AD requires revising the existing maintenance or inspection program, as applicable, to incorporate additional new or more restrictive airworthiness limitations, and repetitive inspections for discrepancies (cracking) of certain structural elements and corrective actions; as specified in a European Union Aviation Safety Agency (EASA) AD, which is incorporated by reference. The FAA is issuing this AD to address the unsafe condition on these products.

DATES: This AD is effective February 15, 2022.

The Director of the Federal Register approved the incorporation by reference of a certain publication listed in this AD as of February 15, 2022.

ADDRESSES: For EASA material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2021-0621.

Examining the AD Docket

You may examine the AD docket at https://www.regulations.gov by searching for and locating Docket No. FAA-2021-0621; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Shahram Daneshmandi, Aerospace Engineer, Large Aircraft Section, International Validation Branch, FAA, 2200 South 216th St., Des Moines, WA 98198; telephone and fax 206-231-3220; email shahram.daneshmandi@faa.gov.

SUPPLEMENTARY INFORMATION:

Background

EASA, which is the Technical Agent for the Member States of the European Union, has issued EASA AD 2020-0251, dated November 11, 2020 (EASA AD 2020-0251) (also referred to as the MCAI), to correct an unsafe condition for all Airbus Defense and Space S.A. Model CN-235, CN-235-100, CN-235-200, and CN-235-300 airplanes.

The FAA issued a notice of proposed rulemaking (NPRM) to amend 14 CFR part 39 to supersede AD 2018-25-16, Amendment 39-19527 (83 FR 64441, December 17, 2018) (AD 2018-25-16). AD 2018-25-16 applied to certain Airbus Defense and Space S.A. Model CN-235, CN-235-200, and CN-235-300 airplanes. The NPRM published in the Federal Register on August 9, 2021 (86 FR 43437). The NPRM was prompted by a determination that additional new or more restrictive airworthiness limitations, including inspections for discrepancies (cracking) of certain structural elements, are necessary. The NPRM proposed to require revising the existing maintenance or inspection program, as applicable, to incorporate new or more restrictive airworthiness limitations, and repetitive inspections for discrepancies (cracking) of certain structural elements and corrective actions, as specified in EASA AD 2020-0251.

The FAA is issuing this AD to address fatigue cracking, damage, and corrosion in principal structural elements; such fatigue cracking, damage, and corrosion could result in reduced structural integrity of the airplane. See the MCAI for additional background information.

Discussion of Final Airworthiness Directive

Comments

The FAA received no comments on the NPRM or on the determination of the cost to the public.

Additional Changes Made to This AD

The FAA has revised paragraph (c) of this AD to remove the inadvertent reference to an airplane's original airworthiness certificate or original export certificate of airworthiness issued on or before March 20, 2018, from the applicability. As explained in the preamble of the NPRM, the intention was to follow the EASA AD 2020-0251's intent. None of the airplanes in the current U.S. fleet have an original airworthiness certificate or original export certificate of airworthiness issued after March 20, 2018. This change does not add any further requirements on any airplane on the U.S. registry, therefore, re-opening the public comment period to provide notice and opportunity for prior public comment are unnecessary, pursuant to 5 U.S.C 553(b)(3). However, paragraphs (h)(5) and (6) of this AD do retain the reference to an airplane's original airworthiness certificate or original export certificate of airworthiness issued on or before March 20, 2018. Those paragraphs state the FAA requirements in regards to maintenance or inspection program revisions to incorporate airworthiness limitations and are separate from the repetitive inspections that apply to all airplanes. Airplanes with an original airworthiness certificate or original export certificate of airworthiness issued after March 20, 2018, must comply with the airworthiness limitations specified as part of the approved type design and referenced on the type certificate data sheet. Therefore, this AD does not include those airplanes in the requirement to revise the existing maintenance or inspection program.

Conclusion

The FAA reviewed the relevant data, and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

EASA AD 2020-0251 specifies new or more restrictive airworthiness limitations for airplane systems, structural inspections, safe life structural items, and safe life system items. EASA AD 2020-0251 also describes repetitive inspections for discrepancies (cracking) of certain structural elements and corrective action (repair). This material is reasonably available because the interested parties have access to it through their normal course of business or by the means identified in the ADDRESSES section.

Costs of Compliance

The FAA estimates that this AD affects 8 airplanes of U.S. registry. The FAA estimates the following costs to comply with this AD:

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate. The FAA estimates the total cost per operator for the new actions to be $7,650 (90 work-hours × $85 per work-hour).

Estimated Costs for Required Actions
Action | Labor cost | Parts cost | Cost per product | Cost on U.S. operators
New inspections | 60 work-hours × $85 per hour = $5,100 | $0 | $5,100 | $40,800

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-25-16, Amendment 39-19527 (83 FR 64441, December 17, 2018); and

b. Adding the following new AD:

2021-25-06 Airbus Defense and Space S.A. (Formerly Known as Construcciones Aeronauticas, S.A.): Amendment 39-21849; Docket No. FAA-2021-0621; Project Identifier MCAI-2020-01517-T.

(a) Effective Date

This airworthiness directive (AD) is effective February 15, 2022.

(b) Affected ADs

This AD replaces AD 2018-25-16, Amendment 39-19527 (83 FR 64441, December 17, 2018) (AD 2018-25-16).

(c) Applicability

This AD applies to all Airbus Defense and Space S.A. (formerly known as Construcciones Aeronauticas, S.A.) Model CN-235, CN-235-100, CN-235-200, and CN-235-300 airplanes, certificated in any category.

(d) Subject

Air Transport Association (ATA) of America Code 05, Time Limits/Maintenance Checks; and 53, Fuselage.

(e) Reason

This AD was prompted by a determination that new or more restrictive airworthiness limitations, including inspections for discrepancies (cracking) of certain structural elements, are necessary. The FAA is issuing this AD to address fatigue cracking, damage, and corrosion in principal structural elements; such fatigue cracking, damage, and corrosion could result in reduced structural integrity of the airplane.

(f) Compliance

Comply with this AD within the compliance times specified, unless already done.

(g) Required Actions

Except as specified in paragraph (h) of this AD: Comply with all required actions and compliance times specified in, and in accordance with, European Union Aviation Safety Agency (EASA) AD 2020-0251, dated November 11, 2020 (EASA AD 2020-0251).

(h) Exceptions to EASA AD 2020-0251

(1) Where EASA AD 2020-0251 refers to its effective date, this AD requires using the effective date of this AD.

(2) The requirements specified in paragraph (4) of EASA AD 2020-0251 do not apply to this AD.

(3) Where paragraph (5) of EASA AD 2020-0251 specifies actions if discrepancies are found while accomplishing any task “required by paragraph (1), (2), (3) or (4) of this [EASA] AD,” this AD requires actions if discrepancies are found while accomplishing any task “required by paragraph (1), (2), or (3) of EASA AD 2020-0251.”

(4) Where paragraph (5) of EASA AD 2020-0251 specifies actions “in case of finding discrepancies,” for this AD, discrepancies include fatigue cracking.

(5) Paragraph (6) of EASA AD 2020-0251 specifies revising “the approved AMP” within 12 months after its effective date, but this AD requires, for airplanes with an original airworthiness certificate or original export certificate of airworthiness issued on or before March 20, 2018, revising the existing maintenance or inspection program, as applicable, to incorporate the “limitations, tasks and associated thresholds and intervals” specified in paragraph (6) of EASA AD 2020-0251 within 90 days after the effective date of this AD.

(6) For airplanes with an original airworthiness certificate or original export certificate of airworthiness issued on or before March 20, 2018, the initial compliance time for doing the tasks specified in paragraph (6) of EASA AD 2020-0251 is at the applicable “thresholds” as incorporated by the requirements of paragraph (6) of EASA AD 2020-0251, or within 90 days after the effective date of this AD, whichever occurs later.

(7) The provisions specified in paragraphs (7) and (8) of EASA AD 2020-0251 do not apply to this AD.

(8) The “Remarks” section of EASA AD 2020-0251 does not apply to this AD.

(i) New Provisions for Alternative Actions and Intervals

After the existing maintenance or inspection program has been revised as required by paragraph (g) of this AD, no alternative actions (e.g., inspections) and intervals are allowed unless they are approved as specified in the provisions of the “Ref. Publications” section of EASA AD 2020-0251.

(j) No Reporting Requirement

Although the service information referenced in EASA AD 2020-0251 specifies to submit certain information to the manufacturer, this AD does not include that requirement.

(k) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (l) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus Defense and Space S.A.'s EASA Design Organization Approval (DOA). If approved by the DOA, the approval must include the DOA-authorized signature.

(l) Related Information

For more information about this AD, contact Shahram Daneshmandi, Aerospace Engineer, Large Aircraft Section, International Validation Branch, FAA, 2200 South 216th St., Des Moines, WA 98198; telephone and fax 206-231-3220; email shahram.daneshmandi@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0251, dated November 11, 2020.

(ii) [Reserved]

(3) For EASA AD 2020-0251, contact EASA, Konrad-Adenauer-Ufer 3, 50668 Cologne, Germany; telephone +49 221 8999 000; email ADs@easa.europa.eu; Internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on December 2, 2021.
Lance T. Gant,
Director, Compliance & Airworthiness Division, Aircraft Certification Service.

[FR Doc. 2021-28579 Filed 1-10-22; 8:45 am]

BILLING CODE 4910-13-P